ELECTION ASSISTANCE COMMISSION

Sunshine Act Notice

AGENCY: Election Assistance Commission.

ACTION: Notice of public meeting.

DATE AND TIME: Monday, September 13, 2004, 10 a.m.-12 Noon

PLACE: U.S. Election Assistance Commission, 1225 New York Ave, NW., Suite 1100, Washington, DC 20005, (Metro Shop: Metro Center).

AGENDA: The Commission will receive updates and reports on the following: Title II Requirements Payments Update; Military and Overseas Voters Best Practice Report; HAVA College Program Update; Polling Place Access for Individuals with Disabilities Update—U.S. Department of Health and Human Services; National Voter Registration Week Kickoff; EAC Management Update. The Commission will also receive the following presentation: National Poll Worker Initiative Panel Presentation. Panelists will include Ms. Rebecca Vigil-Giron—Secretary of State of New Mexico and President of the National Association of Secretaries of State (NASS); Ms. Barbara Jackson, Election Director, Baltimore City, Maryland; Ms. Rose MarcAntonio, Poll Worker, Savannah, Georgia; Ms. Nancy Tate, Executive Director, League of Women Voters of the U.S.

PERSON TO CONTACT FOR INFORMATION: Bryan Whitener, Telephone: (202) 566-3100.

Gracia M. Hillman,
Vice-Chair, U.S. Election Assistance Commission.

[FR Doc. 04-20233 Filed 9-1-04; 1:02 pm]

BILLING CODE 6820-YN-M